NUCLEAR REGULATORY COMMISSION

[Docket No. 52-017; NRC-2008-0149]

Virginia Electric and Power Company, D/B/A Dominion Virginia Power, and Old Dominion Electric Cooperative; Correction to Notice of Availability of the Draft Supplemental Environmental Impact Statement and Public Meeting for North Anna Power Station Unit 3 Combined License Application

AGENCY: Nuclear Regulatory Commission.

ACTION: Correction.

This document corrects a Notice of Availability of the Draft Supplemental Environmental Impact Statement (SEIS), NUREG-1917 and public meeting for North Anna Power Station Unit 3 (North Anna) combined license application published in the Federal Register on December 24, 2008 (73 FR 79196). This action is necessary to correctly identify the closing date of the comment period for the North Anna Unit 3 draft SEIS. In addition, this document corrects the Environmental Protection Agency's Notice of Filing for the draft SEIS published in the Federal Register on January 2, 2009 (74 FR 106).

As noted in the December 24, 2008 Federal Register Notice, the comment period for the North Anna draft SEIS, NUREG-1917 is 75 days and begins on the date of the Environmental Protection Agency's Notice of Filing. The Environmental Protection Agency's Notice of Filing for the North Anna draft SEIS was January 2, 2009; therefore, the 75-day comment period end date is March 20, 2009. The North Anna, Unit 3 draft SEIS is available for public inspection at the NRC Public Document Room (PDR), located at One White Flint North, 11555 Rockville Pike (first floor), Rockville, Maryland, or from the Publicly Available Records component of the NRC's Agency-wide Documents Access and Management System (ADAMS). ADAMS is accessible at http://www.nrc.gov/reading-rm/adams.html, which provides access through the NRC's Electronic Reading Room link. The accession number in ADAMS for the draft SEIS, NUREG-1917, is ML083380360.

Persons who do not have access to ADAMS or who encounter problems in accessing the documents located in ADAMS should contact the NRC's PDR Reference staff at 1-800-397-4209 or 301-415-4737, or by sending an e-mail to pdr.resource@nrc.gov. The draft SEIS may also be viewed on the Internet at: http://www.nrc.gov/reactors/new-reactors/col/north-anna.html. In addition, the Jefferson-Madison Regional Library in Mineral, Virginia; Hanover Branch Library in Hanover, Virginia; Orange County Library in Orange, Virginia; Salem Church Library in Fredericksburg, Virginia; and C. Melvin Snow Memorial Branch Library in Spotsylvania, Virginia have agreed to make the draft SEIS available for public inspection.

The staff will hold a public meeting to present an overview of the draft SEIS, NUREG-1917, and to accept public comments. The public meeting will be held in the Auditorium at the Louisa County High School, 757 Davis Highway, Mineral, Virginia, on Tuesday, February 3, 2009. The meeting will convene at 6 p.m. and will continue until 10 p.m., as necessary. The meeting will be transcribed and will include: (1) A presentation of the contents of the draft SEIS, and (2) the opportunity for interested government agencies, organizations, and individuals to provide comments on the draft report. Additionally, the NRC will host informal discussions one hour before the start of the meeting. No formal comments on the draft SEIS will be accepted during the informal discussions. To be considered, comments must be provided either at the transcribed public meeting or in writing. Persons may register to attend or present oral comments at the meeting by contacting Ms. Alicia Williamson, by telephone at 1-800-368-5642, extension 1878, or by Internet to the NRC at: NORTHANNA.COLAEIS@nrc.gov, no later than January 28, 2009.

Members of the public may also register to speak at the meeting within 15 minutes of the start of the meeting. Individual oral comments may be limited by the time available, depending on the number of persons who register. Members of the public who have not registered may also have an opportunity to speak, if time permits. Members of the public who require special equipment or accommodations to attend or present information at the public meeting should contact Ms. Williamson no later than January 23, 2009, so that the NRC staff can determine whether the request can be accommodated.

Any interested party may submit comments on the draft SEIS for consideration by the NRC staff. Comments may be accompanied by additional relevant information or supporting data. Members of the public may send written comments on the draft SEIS for the North Anna COL, Unit 3, to the Chief, Rulemaking Directives and Editing Branch, Division of Administrative Services, Office of Administration, Mailstop TWB-05-B01M, U.S. Nuclear Regulatory Commission, Washington, DC 20555-0001 and should cite the publication date and page number of this Federal Register Notice. Electronic comments may be sent via the Internet to the NRC at NORTHANNA.COLAEIS@nrc.gov. To ensure that comments will be considered, comments should be received by the end of the comment period, on March 20, 2009. Written comments should be postmarked by March 20, 2009. Electronic Submissions should be sent no later than March 20, 2009.

FOR FURTHER INFORMATION CONTACT: Ms. Alicia Williamson, Environmental Project Manager, at U.S. Nuclear Regulatory Commission, Mailstop T6-D32, Washington, DC 20555-0001, or by phone at (301) 415-1878 or via e-mail at Alicia.Williamson@nrc.gov.

Dated at Rockville, Maryland, this 15th day of January 2009.
For the U.S. Nuclear Regulatory Commission.
Scott Flanders,
Director, Division of Site and Environmental Reviews Office of New Reactors.

[FR Doc. E9-1564 Filed 1-23-09; 8:45 am]

BILLING CODE 7590-01-P